DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Caroline E. Garey, Boston College: Based on the Report and Addendum of the Boston College Research Misconduct Investigation Committee and additional analysis conducted by ORI in its oversight review, the U.S. Public Health Service (PHS) finds that Ms. Caroline E. Garey, former doctoral student, Boston College, engaged in scientific misconduct by falsifying research supported by National Institute of Neurological Disorders and Strokes (NINDS), National Institutes of Health (NIH), grant R01 NS23355.

Specifically, as a graduate student at Boston College, Ms. Garey falsified restriction fragment length polymorphism (RFLP) data for ABP and DBA backcross mice DNA samples by misrepresenting results from multiple assays of identical backcross ABP DNA samples as being from different animals and misrepresenting the autoradiograms of backcross ABP DNA samples as the results from experiments on backcross DBA mice. Ms. Garey reported this falsified data in her doctoral dissertation, “Defect in the ceruloplasmin gene associated with epilepsy in the EL mouse,” and in an article in Nature Genetics 6:426-431, 1994. She caused her falsified data to be reported by her laboratory director in NINDS, NIH, grant application 2 R01 NS23355-08A1 and at an international workshop on epilepsy on September 24, 1994. Ms. Garey also fabricated a translation table that she used to assign falsified RFLP data to individual backcross DBA mice. As a result of falsifying these assays over a minimum of two and one-half years, none of Ms. Garey's research can be considered reliable and the Nature Genetics publication has been retracted. These actions adversely and materially affected the laboratory's ongoing research on the genetic causes of epilepsy.

Ms. Garey also has engaged in a pattern of dishonest conduct that indicates that she is not presently responsible to be a steward of Federal funds. This pattern of behavior includes (1) a history of falsely claiming that she has performed scientific experiments when she has not, and (2) repeated instances in which she has misrepresented her credentials to prospective employers, colleagues, customers, and the general public as including a Ph.D. degree even though Boston College refused to grant her a doctoral degree because of her scientific misconduct.

The publication affected is:

• Garey, C.E., Schwarzman, A.L., Rise, M.L., & Seyfried, T.N. “Ceruloplasmin gene defect associated with epilepsy in EL mice.” Nature Genetics 6:426-431, 1994 (retracted in Nature Genetics 11:104, 1995).

While Ms. Garey does not admit to the allegations of scientific misconduct, she has entered into a Voluntary Exclusion Agreement with PHS in which she has voluntarily agreed for a period of five (5) years, beginning on September 25, 2000:

(1) To exclude herself from any contracting or subcontracting with any agency of the United States Government and from eligibility for, or involvement in, nonprocurement transactions (e.g., grants and cooperative agreements) of the United States Government as defined in 45 CFR part 76 (Debarment Regulations);

(2) To exclude herself from serving in any advisory capacity to PHS, including but not limited to service on any PHS advisory committee, board, and/or peer review committee.

FOR FURTHER INFORMATION CONTACT: Director, Division of Investigative Oversight, Office of Research Integrity, 5515 Security Lane, Suite 700, Rockville, MD 20852, (301) 443-5330.

Chris Pascal,
Director, Office of Research Integrity.

[FR Doc. 00-25568 Filed 10-5-00; 8:45 am]

BILLING CODE 4160-17-P